DEPARTMENT OF DEFENSE

Department of the Army; Corps of Engineers

Availability of the Final Integrated City of Norfolk Coastal Storm Risk Management Feasibility Study Report/Environmental Impact Statement, Norfolk, VA

AGENCY: Department of the Army, U.S. Army Corps of Engineers, DoD.

ACTION: Notice of availability.

SUMMARY: The U.S. Army Corps of Engineers (USACE) Norfolk District, in cooperation with our non-federal sponsor, the City of Norfolk, announce the availability of a Final Integrated Feasibility Report and Environmental Impact Statement (Final IFR/EIS) and Draft Record of Decision (ROD) for the City of Norfolk Coastal Storm Risk Management Feasibility Study, for review and comment. The study evaluates identified flood risks and develops and evaluates coastal storm risk management measures for the City of Norfolk. These measures were formulated to reduce flood risk to residents, industries and businesses which are critical to the Nation's economy in ways that support the long-term resilience due to sea level rise, local subsidence and storms, within the City of Norfolk. Pursuant to the National Environmental Policy Act (NEPA) of 1969, as amended, the USACE determined that the project has the potential to have significant environmental impacts, and developed the Final EIS and Draft ROD to examine and assess the impacts of all proposed action.

DATES: The Final IFR/EIS and Draft ROD are available for a 30-day review period, pursuant to the NEPA. Written comments pursuant will be accepted until the close of public review on the close of business on November 2, 2018.

ADDRESSES: Questions or comments concerning the Final IFR/EIS and Draft ROD may be directed to: Ms. Kathy Perdue; U.S. Army Corps of Engineers, Norfolk District; 803 Front Street, Norfolk, VA 23510 or NorfolkCSRM@usace.army.mil.

FOR FURTHER INFORMATION CONTACT: Ms. Kathy Perdue, U.S. Army Corps of Engineers, Norfolk District, phone number (757) 201-7218, or NorfolkCSRM@usace.army.mil.

SUPPLEMENTARY INFORMATION: The document is available for review at the Norfolk Coastal Storm Risk Management Study website: http://www.nao.usace.army.mil/NCSRM.

Proposed Action. The Study Area is the City of Norfolk. The Proposed Action will include construction of the following measures within the City: Storm surge barriers with gate openings near the mouths of four waterways: The Lafayette River, Pretty Lake, The Hague, and Broad Creek; floodwalls flanking the barriers and near waterways at locations from Lamberts Point to Broad Creek; berms; tide gates at various points to prevent storm surge; generator buildings and pumps; nonstructural measures to protect existing structures; and Natural and Nature-Based features. Implementation of the Proposed Action would impact floodplains, wetlands, mudflats, federally listed threatened and endangered species, and marine mammals, and other resources. The Proposed Action must be located in a floodplain in order to reduce flood risk behind the flood protection system. The Proposed Action will adhere to the 8-step process as outlined under Executive Order 11988, Floodplain Management, including consideration of sea level rise.

Alternatives. The Final IFR/EIS considered a full range of nonstructural and structural flood risk management alternatives that meet the Proposed Action's purpose and need and incorporate measures to avoid and minimize impacts to the maximum extent practicable. Alternatives included: (1) The No Build/Future Without Project Alternative, (2) a Structural Only Project Alternative, (3) a Nonstructural Only Project Alternative, and (4) a dual Structural and Nonstructural Project Alternative, which is the Proposed Action.

Public Involvement. A Notice of Intent to prepare an EIS was published on April 29, 2016, in the Federal Register (81 FR 25656). A public scoping meeting was held on May 25, 2016, and a follow-up public meeting was held on June 8, 2017, both in the City of Norfolk. A Notice of Availability of the Draft EIS was published on November 3, 2017, in the Federal Register (82 FR 51225), for a 45-day public comment period. A third public meeting was held on November 16, 2017, in the City of Norfolk. All comments received have been considered and addressed. The U.S. Environmental Protection Agency serves as a cooperating agency for this project.

Brenda S. Bowen,
Army Federal Register Liaison Officer.

[FR Doc. 2018-21537 Filed 10-2-18; 8:45 am]

BILLING CODE 3720-58-P